FEDERAL EMERGENCY MANAGEMENT AGENCY

44 CFR Part 67

[Docket No. FEMA-D-7540]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (e-mail) matt.miller@fema.gov.

SUPPLEMENTARY INFORMATION: The Federal Emergency Management Agency (FEMA or Agency) proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Administrator, Federal Insurance and Mitigation Administration, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | # Depth in feet above ground. * Elevation in feet (NGVD) • Elevation in feet (NAVD): Existing | # Depth in feet above ground. * Elevation in feet (NGVD) • Elevation in feet (NAVD): Modified | Communities affected
KENTUCKY
Whitley County (Unincorporated Areas)
Cumberland River | Approximately 2.1 miles upstream of State Route 25 West | *935 | *934 | City of Williamsburg, Whitley
| Approximately 7.7 miles upstream of State Route 25 West | *944 | *943 | County (Unincorporated Areas)
ADDRESSES
Whitley County (Unincorporated Areas)
Maps available for inspection at the City of Williamsburg Mayor's Office, 116 North Second Street, Williamsburg, Kentucky.
Send comments to The Honorable Bill Nighbert, Mayor of the City of Williamsburg, P.O. Box 119, Williamsburg, Kentucky 40769.
Whitley County (Unincorporated Areas)
Maps available for inspection at the Whitley County Courthouse, 210 Main Street, Williamsburg, Kentucky.
Send comments to The Honorable Mike Patrick, Whitley County Judge Executive, Whitley County Courthouse, P.O. Box 237, Williamsburg, Kentucky 40769.
NORTH CAROLINA
Hyde County (Unincorporated Areas)
Pungo River Canal | Approximately 2.5 miles upstream of Shallop Creek | None | •7 | Hyde County (Unincorporated Areas)
| Approximately 1,100 feet upstream of Tiffany Trail | None | •10
ADDRESSES
Hyde County (Unincorporated Areas)
Maps available for inspection at the Hyde County Inspection Department, 1129 Main Street, Swan Quarter, North Carolina.
Send comments to Mr. Bryan Steens, Hyde County Manager, P.O. Box 188, 20 Oyster Creek Road, Swan Quarter, North Carolina 27885.
NORTH CAROLINA
Hoke County (Unincorporated Areas) and City of Raeford
Big Marsh Swamp | At the county boundary | None | •188 | Hoke County (Unincorporated Areas)
| Approximately 100 feet downstream of Conoly Road | None | •230
Big Marsh Swamp Tributary | At the confluence with Big Marsh Swamp | None | •198 | Hoke County (Unincorporated Areas)
| Approximately 1.0 mile upstream of Old Wire Road | None | •226
Big Middle Swamp | At the confluence with Raft Swamp | None | •205 | Hoke County (Unincorporated Areas)
| Approximately 1,750 feet downstream of L McLaughlin Road | None | •276
Big Middle Swamp Tributary | At the confluence with Big Middle Swamp | None | •244 | Hoke County (Unincorporated Areas)
| Approximately 680 feet downstream of Laurinburg Road | None | •254
Buffalo Creek | At the confluence with the Lumber River | None | •235 | Hoke County (Unincorporated Areas)
| Approximately 1.7 miles upstream of the confluence of Buffalo Creek Tributary 1 | None | •383
Buffalo Creek Tributary 1 | At the confluence with Buffalo Creek | None | •274 | Hoke County (Unincorporated Areas)
| Approximately 0.6 mile upstream of the confluence with Buffalo Creek | None | •289
Buffalo Creek Tributary 2 | At the confluence with Buffalo Creek | None | •289 | Hoke County (Unincorporated Areas)
| Approximately 1.3 miles upstream of the confluence with Buffalo Creek | None | •360
Gum Swamp | At the county boundary | None | •219 | Hoke County (Unincorporated Areas)
| Approximately 120 feet upstream of Spring Hill Road | None | •230
Jordan Swamp | At the county boundary | None | •218 | Hoke County (Unincorporated Areas)
| Approximately 0.6 mile upstream of Old Maxton Road | None | •234
Little Creek | At the confluence with the Lumber River | None | •246 | Hoke County (Unincorporated Areas)
| Approximately 1.3 miles upstream of Pendergrass Road | None | •290
Little Marsh Swamp | At the county boundary | None | •191 | Hoke County (Unincorporated Areas)
| Approximately 30 feet downstream of Golf Course Road | None | •222
Little Middle Swamp | At the confluence with Raft Swamp | None | *205 | Hoke County (Unincorporated Areas)
| Approximately 1,300 feet downstream of Old Maxton Road | None | *230 |
Little Raft Swamp | At the county boundary | None | *187 | Hoke County (Unincorporated Areas)
| Approximately 0.6 mile upstream of Laurinburg Road | None | *258 |
Little Raft Swamp Tributary | At the confluence with Little Raft Swamp | None | *197 | Hoke County (Unincorporated Areas)
| Approximately 0.4 mile upstream of Wilson Road | None | *223 |
Long Swamp | Approximately 500 feet upstream of Bullard Road | None | *207 | Hoke County (Unincorporated Areas)
| Approximately 0.5 mile upstream of Wilson Road | None | *225 |
Lumber River | At the downstream county boundary | None | *205 | Hoke County (Unincorporated Areas)
| At the upstream county boundary | None | *268 |
Lumber River Tributary | At the confluence with the Lumber River | None | *259 | Hoke County (Unincorporated Areas)
| Approximately 0.6 mile upstream of Ashemont Road | None | *360 |
McNeills Mill Creek | At the confluence with Big Marsh Swamp | None | *195 | Hoke County (Unincorporated Areas)
| Approximately 1,100 feet upstream of Pate Road | None | *226 |
Mountain Creek | At the confluence with the Lumber River | None | *247 | Hoke County (Unincorporated Areas)
| Approximately 0.6 mile upstream of Army Road | None | *329 |
Mountain Creek Tributary | At the confluence with Mountain Creek | None | *280 | Hoke County (Unincorporated Areas)
| Approximately 0.7 mile upstream of the confluence with Mountain Creek | None | *300 |
Quewhiffle Creek | At the confluence with the Lumber River | None | *255 | Hoke County (Unincorporated Areas)
| Approximately 1.2 miles upstream of Calloway Road | None | *347 |
Quewhiffle Creek Tributary 1 | At the confluence with Quewhiffle Creek | None | *288 | Hoke County (Unincorporated Areas)
| Approximately 40 feet downstream of Strother Road | None | *328 |
Quewhiffle Creek Tributary 2 | At the confluence with Quewhiffle Creek | None | *289 | Hoke County (Unincorporated Areas)
| At the county boundary | None | *313 |
Tributary to Quewhiffle Creek Tributary 1 | At the confluence with Quewhiffle Creek Tributary 1 | None | *297 | Hoke County (Unincorporated Areas)
| Approximately 0.8 mile upstream of Calloway Road | None | *353 |
Raft Swamp | At the county boundary | None | *182 | Hoke County (Unincorporated Areas)
| Approximately 100 feet downstream of Turnpike Road | None | *279 |
Raft Swamp Tributary 1 | At the confluence with Raft Swamp | None | *205 | Hoke County (Unincorporated Areas)
| Approximately 375 feet downstream of Redsprings Road | None | *219 |
Raft Swamp Tributary 2 | At the confluence with Raft Swamp | None | *252 | Hoke County (Unincorporated Areas)
| Approximately 0.4 mile upstream of the confluence with Raft Swamp | None | *265 |
Toneys Creek | At the confluence with Raft Swamp | None | *211 | Hoke County (Unincorporated Areas), City of Raeford
| Approximately 800 feet downstream of Turnpike Road | None | *265 |
Toneys Creek Tributary 1 | At the confluence with Toneys Creek | None | *215 | Hoke County (Unincorporated Areas), City of Raeford
| Approximately 0.5 mile upstream of Laurinburg Road/Interstate 40 | None | *260 |
ADDRESSES
Hoke County (Unincorporated Areas)
Maps available for inspection at the Hoke County Planning and Zoning Department 227 North Main Street, Raeford, North Carolina.
Send comments to Mr. Michael N. Wood, Hoke County Manager, P.O. Box 210, 227 North Main Street, Raeford, North Carolina 28376
City of Raeford
Maps available for inspection at the Raeford City Public Works Department, 315 North Main Street, Raeford, North Carolina
Send comments to the Honorable Bob Gentry, Mayor of the City of Raeford, 315 North Main Street, Raeford, North Carolina 28376.
NORTH CAROLINA
Moore County (Unincorporated Areas)
Aberdeen Creek | At the confluence with Drowning Creek | None | *273 | Moore County (Unincorporated Areas), Town of Southern Pines, Village of Pinehurst
| Approximately 250 feet downstream of Williams Drive | None | *470 |
Aberdeen Creek Tributary 1 | At Plantation Drive | None | *385 | Town of Southern Pines
| Approximately 0.7 mile upstream of Plantation Drive | None | *442 |
Aberdeen Creek Tributary 2 | At the confluence with Aberdeen Creek | None | •386 | Village of Pinehurst
| Approximately 0.6 mile upstream of the confluence | None | •426
Aberdeen Creek Tributary 3 | At the confluence with Aberdeen Creek | None | •386 | Village of Pinehurst,
| Approximately 100 feet upstream of National Drive | None | •463 | Town of Southern Pines
Aberdeen Creek Tributary 4 | At the confluence with Aberdeen Creek | None | •418 | Town of Southern Pines
| Approximately 1,175 feet upstream of the confluence | None | •442
Deep Creek | At the confluence with Horse Creek | None | •302 | Moore County (Unincorporated
| Approximately 1.0 mile upstream of the confluence with Sandy Run | None | •367 | Areas), Village of Foxfire
Drowning Creek | At the county boundary | None | •268 | Moore County (Unincorporated
| Approximately 400 feet downstream of Purdue Road | None | •672 | Areas)
Drowning Creek Tributary 2 | At the confluence with Drowning Creek | None | •458 | Moore County (Unincorporated
| Approximately 1.4 miles upstream of Martin Road | None | •545 | Areas), Village of Foxfire
Horse Creek | At the confluence with Drowning Creek | None | •284 | Moore County (Unincorporated
| Approximately 0.4 mile upstream of Linden Road | None | •374 | Areas), Village of Pinehurst
Horse Creek Tributary 1 | At the confluence with Horse Creek | None | •319 | Moore County (Unincorporated
| Approximately 1.2 miles upstream of the confluence with Horse Creek | None | •431 | Areas)
Horse Creek Tributary 2 | At the confluence with Horse Creek | None | •342 | Moore County (Unincorporated
| Approximately 1.2 miles upstream of the confluence | None | •401 | Areas), Town of Aberdeen, Village of Pinehurst
Horse Creek Tributary 4 | At the confluence with Horse Creek | None | •366 | Moore County (Unincorporated
| Approximately 1,300 feet upstream of Linden Road | None | •441 | Areas), Village of Pinehurst
Jackson Creek | At the confluence with Drowning Creek | None | •370 | Moore County (Unincorporated
| Approximately 1,975 feet upstream of Currie Mill Road | None | •437 | Areas), Village of Foxfire
Jackson Creek Tributary 1 | At the confluence with Jackson Creek | None | •373 | Moore County (Unincorporated
| Approximately 0.4 mile upstream of the confluence of Tributary to Jackson Creek Tributary 1 | None | •394 | Areas), Village of Foxfire
Jackson Creek Tributary 3 | At the confluence with Jackson Creek | None | •415 | Moore County (Unincorporated
| Approximately 1.7 miles upstream of the confluence with Jackson Creek | None | •443 | Areas)
Lake Auman | Entire shoreline of Lake Auman within community | None | •525 | Moore County (Unincorporated Areas)
McCallum Branch | At the confluence with Aberdeen Creek | None | •340 | Town of Aberdeen, Village of
| Approximately 0.4 mile upstream of confluence | None | •340 | Pinehurst
Pinehurst Lake | Entire shoreline of Pinehurst Lake within community | None | •413 | Village of Pinehurst
Quewhiffle Creek Tributary 2 | At the county boundary | None | •313 | Moore County (Unincorporated
| Approximately 0.4 mile downstream of Lockey Drive | None | •401 | Areas), Town of Aberdeen
Tributary to Drowning Creek Tributary 2 | At the confluence with Drowning Creek Tributary 2 | None | •470 | Moore County (Unincorporated Areas)
| Approximately 1,800 feet upstream of Eagle Branch Road | None | •516
Tributary to Jackson Creek Tributary 1 | At the confluence with Jackson Creek Tributary 1 | None | •380 | Moore County (Unincorporated Areas), Village of Foxfire
| Approximately 1,750 feet downstream of Jackson Springs Road | None | •402
Tributary to Quewhiffle Creek Tributary 2 | At the confluence with Quewhiffle Creek Tributary 2 | None | •316 | Moore County (Unincorporated Areas)
| Approximately 0.4 mile upstream of confluence of Quewhiffle Creek Tributary 2 | None | •343
ADDRESSES
Town of Aberdeen
Maps available for inspection at the Aberdeen Planning Department, 115 North Poplar Street, Aberdeen, North Carolina.
Send comments to The Honorable Betsy Mofield, Mayor of the Town of Aberdeen, P.O. Box 785, 115 North Poplar Street, Aberdeen, North Carolina 28315.
Village of Foxfire
Maps available for inspection at the Foxfire Village Zoning Department, 1 Town Hall Drive, Foxfire Village, North Carolina.
Send comments to The Honorable Samuel Brandes, Mayor of the Village of Foxfire, 1 Town Hall Drive, Foxfire Village, North Carolina 27281.
Moore County (Unincorporated Areas)
Maps available for inspection at the Moore County Planning Department, 101A Monroe Street, Carthage, North Carolina.
Send comments to Mr. David McNeil, Moore County Manager, P.O. Box 905, Courthouse Square, Carthage, North Carolina 28327.
Town of Pinebluff
Maps available for inspection at the Pinebluff Zoning Department, 325 East Baltimore Avenue, Pinebluff, North Carolina.
Send comments to The Honorable Earlene Lamb, Mayor of the Town of Pinebluff, P.O. Box 367, 325 East Baltimore Avenue, Pinebluff, North Carolina 28373.
Village of Pinehurst
Maps available for inspection at the Pinehurst Planning Department, 395 Magnolia Road, Pinehurst, North Carolina.
Send comments to Mr. Andrew Wilkinson, Pinehurst Village Manager, P.O. Box 5589, 395 Magnolia Road, Pinehurst, North Carolina 28374.
Town of Southern Pines
Maps available for inspection at the Southern Pines Planning Department, 180 Southwest Broad Street, Southern Pines, North Carolina.
Send comments to the Honorable Frank Quis, Mayor of the Town of Southern Pines, 125 Southeast Broad Street, Southern Pines, North Carolina 28387.
SOUTH CAROLINA
(City of Goose Creek, City of Hanahan, and the unincorporated areas of Berkeley County)
Lake Marion | Entire shoreline within Berkeley County | None | *77 | Berkeley County (Unincorporated Areas).
Atlantic Ocean (Wambaw Creek) | From confluence with South Santee River to Forest Road 204 | None | *8 | Berkeley County (Unincorporated Areas).
Atlantic Ocean (South Santee River) | From confluence with Wambaw Creek to confluence with Santee River | None | *9 | Berkeley county (Unincorporated Areas).
Atlantic Ocean (Santee River) | At confluence of South Santee River | None | *9 | Berkeley County (Unincorporated Areas).
| Approximately 8.1 miles upstream of confluence of South Santee River | None | *8
Atlantic Ocean (Clouter Creek) | At the confluence of Cooper River and Clouter Creek | *14 | *16 | Berkeley County (Unincorporated Areas).
| Approximately 500 feet east of Cooper River Levee along Mark Clark Expressway (I-526) | None | *12
Wando River | Approximately 1,000 feet northeast of intersection of Bluffview Lane and Cainboy Village Road | None | *11 | Berkeley County (Unincorporated Areas).
| Approximately 650 feet southeast of intersection of Ashmont Drive and Jamesbury Road | *11 | *9
Beresford Creek | Approximately 1,000 feet south of intersection of Legrand Boulevard and Clements Ferry Road | *10 | *12 | Berkeley County (Unincorporated Areas).
| Approximately 0.871 mile southeast of intersection of Greenan Court and Clemens Ferry Road | *11 | *14
Atlantic Ocean (Goose Creek) | Approximately 1,000 feet north of intersection of Yeamanshall Road and North Rhett Avenue | None | *11 | City of Hanahan, City of Goose Creek.
| Approximately 4,500 feet south of intersection of Wilkinson Way and Torpedo Road | None | *13
Atlantic Ocean (Cooper River) | Approximately 1 mile east of intersection of Missile Haul Road and Bushy Park Road | None | *13 | City of Goose Creek.
| Approximately 1,000 feet south of intersection of Wilkinson Way and Red Bank Road | None | *12
Back River | At confluence of Cooper River | None | *13 | City of Goose Creek.
| Approximately 1 mile downstream of confluence of Chicken Creek | None | *7
Foster Creek | At confluence with Back River | None | *7 | City of Goose Creek.
| Approximately 0.5 mile downstream of Pearl Street | None | *11
ADDRESSES
Berkeley County (Unincorporated Areas)
Maps available for inspection at the Berkeley County Office Building, 223 North Live Oak Drive, Moncks Corner, South Carolina.
Send comments to Mr. Jim Rozier, Berkeley County Supervisor, 223 North Live Oak Drive, Moncks Corner, South Carolina 29461-2331.
City of Goose Creek
Maps available for inspection at the Goose Creek City Hall, 519 North Goose Boulevard, Goose Creek, South Carolina.
Send comments to The Honorable Michael J. Heitzler, Mayor of the City of Goose Creek, P.O. Drawer 1768, South Carolina 29445.
City of Hanahan
Maps available for inspection at the Hanahan City Administration Building, 1255 Yeamans Hall Road, Hanahan, South Carolina.
Send comments to Mr. Dennis Pieper, City of Hanahan Manager, 1255 Yeamans Hall Road, South Carolina 29406-2744.
TENNESSEE
Carter County (Unincorporated Areas)
Doe River | Approximately 1,150 feet downstream of U.S. Highway 19E Approximately 1.3 miles upstream of Julian Road | None None | *2,496 *2,663 | Carter County (Unincorporated Areas).
Doe River Overland Flow | Approximately 175 feet upstream of the confluence with Doe River At divergence with Doe River | *2,569 *2,587 | *2,568 *2,585 | Carter County (Unincorporated Areas).
Buck Creek | At confluence with Shell Creek Approximately 1,775 feet upstream of Buck Creek Road | None None | *2,642 *2,692 | Carter County (Unincorporated Areas).
Hampton Creek | At confluence with Doe River Approximately 2 miles upstream of confluence with Doe River | *2,598 None | *2,597 *2,825 | Carter County (Unincorporated Areas).
Shell Creek | At confluence with Doe River Approximately 140 feet upstream of Ellis Hollow Road | *2,577 None | *2,576 *2,780 | Carter County (Unincorporated Areas).
ADDRESSES
Carter County (Unincorporated Areas)
Maps available for inspection at the Carter County Courthouse, 801 Elk Avenue, Elizabethton, Tennessee.
Send comments to Mr. Truman Clark, Carter County Executive, Carter County Courthouse, 801 Elk Avenue, Elizabethton, Tennessee 37643.
VIRGINIA
Shenandoah County and Incorporated Areas
North Fork Shenandoah River | At the downstream county boundary Approximately 4,000 feet upstream of State Route 953 | None None | *517 *952 | Shenandoah County (Unincorporated Areas), Town of Strasburg, Town of Mount Jackson, Town of New Market.
Spring Hollow | At the confluence with North Fork Shenandoah River Approximately 1,500 feet upstream of State Route 763 | None None | *676 *930 | Shenandoah County (Unincorporated Areas), Town of Woodstock.
Stony Creek | At the confluence with North Fork Shenandoah River Approximately 400 feet downstream of State Route 760 | None *780 | *781 *781 | Shenandoah County (Unincorporated Areas), Town of Edinburg.
ADDRESSES
Shenandoah County (Unincorporated Areas)
Maps available for inspection at the Shenandoah County Planning and Zoning Department, 600 North Main Street, Suite 107, Woodstock, Virginia.
Send comments to Mr. Vincent Poling, Shenandoah County Administrator, 600 North Main Street, Suite 102, Woodstock, Virginia 22664.
Town of Edinburg
Maps available for inspection at the Edinburg Town Office, 101 Town Hall Avenue, Edinburg, Virginia.
Send comments to The Honorable Daniel J. Harshman, Mayor of the Town of Edinburg, P.O. Box 85, Edinburg, Virginia 22824.
Town of Mount Jackson
Maps available for inspection at the Mount Jackson Town Hall, 5945 Main Street, Mount Jackson, Virginia.
Send comments to The Honorable Joseph Williams, Mayor of the Town of Mount Jackson, P.O. Box 487, Mount Jackson, Virginia 22842.
Town of New Market
Maps available for inspection at the New Market Town Office, 9418 John Sevier Road, New Market, Virginia.
Send comments to The Honorable Ripley Click, Mayor of the Town of New Market, 217 Shenvalee Drive, New Market, Virginia 22844.
Town of Strasburg
Maps available for inspection at the Strasburg Town Office, 174 East King Street, Strasburg, Virginia.
Send comments to The Honorable Richard Orndorff, Jr., Mayor of the Town of Strasburg, P.O. Box 351, Strasburg, Virginia 22657.
Town of Toms Brook
Maps available for inspection at the Toms Brook Town Office, 3356 South Main Street, Toms Brook, Virginia.
Send comments to The Honorable Philip Fauber, Mayor of the Town of Toms Brook, Town Hall, P.O. Box 162, 3356 South Main Street, Toms Brook, Virginia 22660.
Town of Woodstock
Maps available for inspection at the Woodstock Municipal Building, 135 North Main Street, Woodstock, Virginia.
Send comments to The Honorable William C. Moyers, Mayor of the Town of Woodstock, Municipal Building, 135 North Main Street, Woodstock, Virginia 22664.

(Catalog of Federal Domestic Assistance No. 83.100, “Flood Insurance”)
Dated: September 30, 2002.
Anthony S. Lowe,
Administrator, Federal Insurance and Mitigation Administration.

[FR Doc. 02-25962 Filed 10-10-02; 8:45 am]

BILLING CODE 6718-04-P